DEPARTMENT OF COMMERCE

International Trade Administration

[A-405-803, A-421-811]

Purified Carboxymethylcellulose From Finland and the Netherlands: Continuation of Antidumping Duty Orders

AGENCY: Import Administration, International Trade Administration, Department of Commerce.

SUMMARY: As a result of the determinations by the Department of Commerce and the U.S. International Trade Commission that revocation of the antidumping duty orders on purified carboxymethylcellulose from Finland and the Netherlands would likely lead to continuation or recurrence of dumping and material injury to an industry in the United States, the Department of Commerce is publishing a notice of continuation of these antidumping duty orders.

DATES: Effective Date: May 20, 2011.

FOR FURTHER INFORMATION CONTACT: Dena Crossland or Angelica Mendoza, AD/CVD Operations Office 7, Import Administration, International Trade Administration, U.S. Department of Commerce, 14th Street and Constitution Avenue NW., Washington, DC 20230; telephone: (202) 482-3362 and (202) 482-3019, respectively.

SUPPLEMENTARY INFORMATION:

Background

On July 11, 2005, the Department of Commerce (the Department) published the antidumping duty orders on purified carboxymethylcellulose (purified CMC) from Finland and the Netherlands. See Notice of Antidumping Duty Orders: Purified Carboxymethylcellulose from Finland, Mexico, the Netherlands and Sweden, 70 FR 39734 (July 11, 2005). On June 2, 2010, the Department published a notice of initiation of its first five-year (sunset) reviews of the antidumping duty orders on purified CMC from Finland and the Netherlands. See Initiation of Five-Year (“Sunset”) Review, 75 FR 30777 (June 2, 2010).

As a result of these sunset reviews, the Department determined that revocation of the antidumping duty orders on purified CMC from Finland and the Netherlands would likely lead to continuation or recurrence of dumping and, therefore, notified the U.S. International Trade Commission (ITC) of the magnitude of the margins likely to prevail should these orders be revoked. See Purified Carboxymethylcellulose From Finland, the Netherlands, and Sweden: Final Results of the Expedited First Sunset Reviews of the Antidumping Duty Orders, 75 FR 61700 (October 6, 2010) and accompanying Issues and Decision Memorandum.

On May 12, 2011, the ITC published its determination in the Federal Register, pursuant to section 751(c) of the Tariff Act of 1930, as amended (the Act), that revocation of the antidumping duty orders on purified CMC from Finland and the Netherlands would likely lead to a continuation or recurrence of material injury to an industry in the United Sates within a reasonably foreseeable time. See Purified Carboxymethylcellulose From Finland, Mexico, Netherlands and Sweden, 76 FR 27663 (May 12, 2011), and USITC Publication 4225 (May 2011), titled Purified Carboxymethylcellulose from Finland, Mexico, Netherlands and Sweden (Investigation Nos. 731-TA-1084-1087 (Review)).

Scope of the Orders

The merchandise covered by these orders is all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations, which, at a minimum, reduce the remaining salt and other by-product portion of the product to less than ten percent. The merchandise subject to the orders is currently classified in the Harmonized Tariff Schedule of the United States at subheading 3912.31.00. This tariff classification is provided for convenience and customs purposes; however, the written description of the scope of the orders is dispositive.

Continuation of the Orders

As a result of the determinations by the Department and the ITC that revocation of the antidumping duty orders would likely lead to continuation or recurrence of dumping and material injury to an industry in the United States, pursuant to section 751(d)(2) of the Act, the Department hereby orders the continuation of the antidumping duty orders on purified CMC from Finland and the Netherlands.

U.S. Customs and Border Protection will continue to collect antidumping duty cash deposits at the rates in effect at the time of entry for all imports of subject merchandise. The effective date of the continuation of these orders will be the date of publication in the Federal Register of this notice of continuation. Pursuant to section 751(c)(2) of the Act, the Department intends to initiate the next sunset reviews of these orders not later than 30 days prior to the fifth anniversary of the effective date of continuation.

These sunset reviews and this notice are in accordance with section 751(c) of the Act and published pursuant to section 777(i)(1) of the Act.

Dated: May 13, 2011.
Ronald K. Lorentzen,
Deputy Assistant Secretary for Import Administration.

[FR Doc. 2011-12462 Filed 5-19-11; 8:45 am]

BILLING CODE 3510-DS-P